DEPARTMENT OF STATE

[Public Notice 4618]

Culturally Significant Objects Imported for Exhibition Determinations: “Nicholas and Alexandra: At Home With the Last Tsar and His Family”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Nicholas and Alexandra: At Home with the Last Tsar and his Family,” imported from abroad for temporary exhibition within the United States, are of cultural significance. The objects are imported pursuant to loan agreements with the foreign owners. I also determine that the exhibition or display of the exhibit objects at the Museum of Fine Arts, Santa Fe, New Mexico, from on or about May 28, 2004 until on or about September 6, 2004, at the Newark Museum, Newark, New Jersey, from on or about September 27, 2004 until on or about January 9, 2005, at the Cinncinati Museum Center, Cincinnati, Ohio, from on or about January 29, 2005 until on or about May 1, 2005, and at possible additional venues yet to be determined, is in the national interest. Public Notice of these Determinations is ordered to be published in the Federal Register.

FOR FURTHER INFORMATION CONTACT: For further information, including a list of the exhibit objects, contact the Office of the Legal Adviser, U.S. Department of State, telephone: (202) 619-6982. The address is U.S. Department of State, SA-44, 301 4th Street SW., Room 700, Washington, DC 20547-0001.

Dated: February 3, 2004.
C. Miller Crouch,
Principal Deputy Assistant Secretary for Educational and Cultural Affairs, Department of State.

[FR Doc. 04-2823 Filed 2-9-04; 8:45 am]

BILLING CODE 4710-08-P